NUCLEAR REGULATORY COMMISSION

[Docket No. 99902052; NRC-2023-0143]

NuScale Power, LLC; Carbon Free Power Project

AGENCY: Nuclear Regulatory Commission.

ACTION: Limited work authorization application; receipt.

SUMMARY: The Nuclear Regulatory Commission (NRC, the Commission) has received a limited work authorization (LWA) application from Carbon Free Power Project, (CFPP) LLC to conduct certain early construction activities at the Idaho National Laboratory (INL) for which either a construction permit or a combined license would otherwise be required.

DATES: August 17, 2023.

ADDRESSES: Please refer to Docket ID NRC-2023-0143 when contacting the NRC about the availability of information regarding this document. You may obtain publicly available information related to this document using any of the following methods:

• Federal Rulemaking Website: Go to https://www.regulations.gov and search for Docket ID NRC-2023-0143. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The CFPP application for LWA is available in ADAMS under Package Accession No. ML23212A007.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Omid Tabatabai, Office of Nuclear Reactor Regulation, U.S. Nuclear Regulatory Commission, Washington, DC 20555-0001, telephone: 301-415-6616, email: Omid.Tabatabai@nrc.gov.

SUPPLEMENTARY INFORMATION:

On July 31, 2023, NuScale Power, LLC, (NuScale) on behalf of Carbon Free Power Project (CFPP) LLC, filed an application for a limited work authorization (LWA) with the NRC pursuant to part 50 of title 10 of the Code of Federal Regulations (10 CFR), “Domestic Licensing of Production and Utilization Facilities,” paragraph 50.10(d), “Request for limited work authorization,” along with a request for exemption from certain requirements in paragraph 50.10(c), “Requirement for construction permit, early site permit authorizing limited work authorization activities, combined license, or limited work authorization.” The applicant submitted its LWA request as part of a “phased” combined license application pursuant to 10 CFR part 52, “Licenses, Certifications, and Approvals for Nuclear Power Plants.” CFPP plans to submit a combined license application to the NRC in January 2024 to construct and operate a 6-module NuScale small modular reactor plant at INL. The information submitted by the applicant includes a request for approval of certain early construction activities at the CFPP site.

If the NRC staff finds the LWA application acceptable for docketing, the staff will begin a detailed technical review of the application. Subsequent Federal Register notices will address the acceptability of the tendered LWA application for docketing and opportunities for participation of the public during the course of the staff's review.

A copy of the application is available for public inspection at https://www.nrc.gov/reactors/new-reactors/smr/licensing-activities/pre-application-activities/idaho-national-labs-preapp.html.

Dated: August 14, 2023.
For the Nuclear Regulatory Commission.
Omid Tabatabai-Yazdi,
Senior Project Manager, New Reactor Licensing Branch, Division of New and Renewed Licenses, Office of Nuclear Reactor Regulation.

[FR Doc. 2023-17723 Filed 8-16-23; 8:45 am]

BILLING CODE 7590-01-P